DEPARTMENT OF ENERGY

Federal Energy Regulatory Commission

Combined Notice of Filings #1

Take notice that the Commission received the following electric corporate filings:

Docket Numbers: EC18-151-000.

Applicants: Breckinridge Wind Project, LLC, Carousel Wind Farm, LLC, Cottonwood Wind Project, LLC, Golden Hills North Wind, LLC, Golden Hills Interconnection, LLC, Kingman Wind Energy I, LLC, Kingman Wind Energy II, LLC, Mountain View Solar, LLC, NextEra Energy Bluff Point, LLC, Ninnescah Wind Energy, LLC, Rush Springs Wind Energy, LLC, NEP US SellCo, LLC, NEP Renewables Holdings, LLC.

Description: Joint Application for Authorization Under Section 203 of the Federal Power Act of Breckinridge Wind Project, LLC, et al.

Filed Date: 9/5/18.

Accession Number: 20180905-5102.

Comments Due: 5 p.m. ET 9/26/18.

Take notice that the Commission received the following electric rate filings:

Docket Numbers: ER18-2379-000.

Applicants: PJM Interconnection, L.L.C.

Description: § 205(d) Rate Filing: 3rd Rev ISA SA No. 3837; 2nd Rev CSA SA No. 3838; Queue #X4-048/Y2-089/AA1-077 to be effective 8/6/2018.

Filed Date: 9/5/18.

Accession Number: 20180905-5101.

Comments Due: 5 p.m. ET 9/26/18.

Docket Numbers: ER18-2380-000.

Applicants: California Independent System Operator Corporation.

Description: § 205(d) Rate Filing: 2018-09-05 Dispatch Operating Target Clarification Amendment to be effective 11/6/2018.

Filed Date: 9/6/18.

Accession Number: 20180906-5000.

Comments Due: 5 p.m. ET 9/27/18.

Docket Numbers: ER18-2381-000.

Applicants: Midcontinent Independent System Operator, Inc.

Description: Annual Calculation of the Cost of New Entry value (“CONE”) for each Local Resource Zone (“LRZ”) in the MISO Region of Midcontinent Independent System Operator, Inc.

Filed Date: 9/5/18.

Accession Number: 20180905-5136.

Comments Due: 5 p.m. ET 9/26/18.

Docket Numbers: ER18-2382-000.

Applicants: Southwest Power Pool, Inc.

Description: § 205(d) Rate Filing: Revisions to Attachment AP to Remove References to SPP as Regional Entity to be effective 9/1/2018.

Filed Date: 9/5/18.

Accession Number: 20180905-5137.

Comments Due: 5 p.m. ET 9/26/18.

Docket Numbers: ER18-2383-000.

Applicants: Southwest Power Pool, Inc.

Description: § 205(d) Rate Filing: Bylaws and Membership Agreement Revisions to Remove References to SPP RE to be effective 9/1/2018.

Filed Date: 9/5/18.

Accession Number: 20180905-5147.

Comments Due: 5 p.m. ET 9/26/18.

Docket Numbers: ER18-2384-000.

Applicants: Ameren Illinois Company.

Description: Notice of Cancellation of Rate Schedule No. 43 of Ameren Illinois Company.

Filed Date: 9/5/18.

Accession Number: 20180905-5148.

Comments Due: 5 p.m. ET 9/26/18.

Docket Numbers: ER18-2385-000.

Applicants: Southwest Power Pool, Inc.

Description: § 205(d) Rate Filing: 607R33 Westar Energy, Inc. NITSA NOA to be effective 9/27/2018.

Filed Date: 9/6/18.

Accession Number: 20180906-5059.

Comments Due: 5 p.m. ET 9/27/18.

Docket Numbers: ER18-2386-000.

Applicants: NRG REMA LLC.

Description: Compliance filing: Notice of Succession for Reactive Service Rate Schedule to be effective 8/21/2018.

Filed Date: 9/6/18.

Accession Number: 20180906-5060.

Comments Due: 5 p.m. ET 9/27/18.

Docket Numbers: ER18-2387-000.

Applicants: GenOn Mid-Atlantic, LLC.

Description: Compliance filing: Notice of Succession for Reactive Service Rate Schedules to be effective 8/21/2018.

Filed Date: 9/6/18.

Accession Number: 20180906-5061.

Comments Due: 5 p.m. ET 9/27/18.

Docket Numbers: ER18-2388-000.

Applicants: GenOn Energy Management, LLC.

Description: Tariff Cancellation: Notice of Cancellation to be effective 8/21/2018.

Filed Date: 9/6/18.

Accession Number: 20180906-5062.

Comments Due: 5 p.m. ET 9/27/18.

Docket Numbers: ER18-2389-000.

Applicants: GenOn Energy Management, LLC.

Description: Tariff Cancellation: Notices of Cancellation to be effective 8/21/2018.

Filed Date: 9/6/18.

Accession Number: 20180906-5063.

Comments Due: 5 p.m. ET 9/27/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 6, 2018.
Nathaniel J. Davis, Sr.,
Deputy Secretary.

[FR Doc. 2018-19805 Filed 9-11-18; 8:45 am]

BILLING CODE 6717-01-P